DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the Chairperson of the VA Performance Review Board of the Department of Veterans Affairs that was published in the Federal Register on August 4, 2004 (Vol. 69, 149).

EFFECTIVE DATE: November 2, 2004.

FOR FURTHER INFORMATION CONTACT: Charlotte Moment, Office of Human Resources Management (052B), Department of Veterans Affairs,810 Vermont Avenue, NW., Washington, DC 20420, (202) 273-8165.

VA Performance Review Board (PRB)

Tim S. McClain, Acting Assistant Secretary for Human Resources and Administration (Chairperson);

William H. Campbell, Principal Deputy Assistant Secretary for Human Resources and Administration (Alternate);

Nora E. Egan, Chief of Staff; Ronald R. Aument, Deputy Under Secretary for Benefits, Veterans Benefits Administration;

Michael Walcoff, Associate Deputy Under Secretary for Operations, Veterans Benefits Administration (Alternate);

Michael J. Kussman, M.D., Acting Deputy Under Secretary for Health, Veterans Health Administration;

Laura J. Miller, Assistant Deputy Under Secretary for Health for Operations and Management, Veterans Health Administration (Alternate);

John H. Thompson, Deputy General Counsel;

D. Mark Catlett, Principal Deputy Assistant Secretary for Management; Lucretia M. McClenney, Special Assistant;

Jon A. Wooditch, Deputy Inspector General;

Robert B. Holbrook, Director, Office of Construction Management, National Cemetery Administration;

Craig B. Luigart, Associate Deputy Assistant Secretary for Policy, Plans and Programs, Information and Technology; and

Pamela M. Iovino, Acting Assistant Secretary for Congressional and Legislative Affairs.

Veterans Benefits Administration PRB

Ronald R. Aument, Deputy Under Secretary for Benefits, (Chairperson);

Geraldine V. Breakfield, Associate Deputy Under Secretary for Management;

Robert J. Epley, Associate Deputy Under Secretary for Policy & Program Management;

Michael Walcoff, Associate Deputy Under Secretary for Field Operations;

James Bohmbach, Chief Financial Officer;

Diana M. Rubens, Director, Western Area Office; and

Thomas Bowman, Deputy Chief of Staff, Office of the Secretary.

Veterans Health Administration PRB

Michael J. Kussman, MD, Chair, Acting Deputy Under Secretary for Health;

Laura J. Miller, Vice-Chair, Deputy Under Secretary for Health for Operations and Management;

Linda W. Belton, Network Director, VISN 11;

Everett A. Chasen, Chief Communications Officer;

Jeanette A. Chirico-Post, MD, Network Director, VISN 1;

Kenneth J. Clark, Network Director, VISN 22;

Arthur S. Hamerschlag, VHA Chief of Staff;

Daniel F. Hoffmann, Network Director, VISN 6;

Robert M. Kolodner, MD, Associate Chief Information Officer;

Robert E. Lynch, MD, Network Director, VISN 16;

Jimmy A. Norris, Chief Financial Officer;

Robert A. Petzel, MD, Network Director, VISN 23;

Catherine J. Rick, RN, MSN, Chief Nursing Officer;

Linda F. Watson, Network Director, VISN 7;

Nevin M. Weaver, Director, Management Support Office (Ex Officio);

Robert L. Wiebe, MD, Network Director, VISN 21;

Mark E. Shelhorse, Acting Chief Consultant, Mental Health Strategic Health Care Group, and

Dennis Duffy, Acting Assistant Secretary for Policy, Planning, and Preparedness.

Office of Inspector General PRB

George Grob, Department of Health and Human Services, Office of Inspector General;

George J. Opfer, Department of Labor, Office of Inspector General; and

Michael P. Stephens, Department of Housing and Urban Development, Office of Inspector General

Dated: October 26, 2004.
Anthony J. Principi,
Secretary of Veterans Affairs.

[FR Doc. 04-24401 Filed 11-1-04; 8:45 am]

BILLING CODE 8320-01-P